DEPARTMENT OF TRANSPORTATION

Pipeline and Hazardous Materials Safety Administration

[Docket No. PHMSA-2022-0005]

Pipeline Safety: Information Collection Activities

AGENCY: Pipeline and Hazardous Materials Safety Administration (PHMSA), DOT.

ACTION: Notice and request for comments.

SUMMARY: In accordance with the Paperwork Reduction Act of 1995, Public Law 104-13, PHMSA invites public comments about the Agency's intention to request Office of Management and Budget (OMB) approval to renew four information collections that are scheduled to expire in 2022. PHMSA has reviewed each information collection and considers them vital to maintaining pipeline safety. As such, PHMSA will request renewal from OMB, without change, for each information collection.

DATES: Interested persons are invited to submit comments on or before April 4, 2022.

ADDRESSES: Comments may be submitted in the following ways:

E-Gov Website: https://www.regulations.gov. This site allows the public to submit comments on any Federal Register notice issued by any agency.

Fax: 1-202-493-2251.

Mail: Docket Management Facility; U.S. Department of Transportation (DOT), 1200 New Jersey Avenue SE, West Building, Room W12-140, Washington, DC 20590-0001.

Hand Delivery: Room W12-140 on the ground level of DOT, West Building, 1200 New Jersey Avenue SE, Washington, DC, between 9:00 a.m. and 5:00 p.m., Monday through Friday, except Federal holidays.

Instructions: Identify the docket number, PHMSA-2022-0005, at the beginning of your comments. Note that all comments received will be posted without change to https://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000, (65 FR 19477) or visit https://www.regulations.gov before submitting any such comments.

Docket: For access to the docket or to read background documents or comments, go to https://www.regulations.gov at any time or to Room W12-140 on the ground level of DOT, West Building, 1200 New Jersey Avenue SE, Washington, DC, between 9:00 a.m. and 5:00 p.m., Monday through Friday, except Federal holidays. If you wish to receive confirmation of receipt of your written comments, please include a self-addressed, stamped postcard with the following statement: “Comments on: PHMSA-2022-0005.” The Docket Clerk will date stamp the postcard prior to returning it to you via the U.S. mail. Please note that due to delays in the delivery of U.S. mail to Federal offices in Washington, DC, we recommend that persons consider an alternative method (internet, fax, or professional delivery service) of submitting comments to the docket and ensuring their timely receipt at DOT.

Privacy Act Statement: DOT may solicit comments from the public regarding certain general notices. DOT posts these comments, without edit, including any personal information the commenter provides, to www.regulations.gov, as described in the system of records notice (DOT/ALL-14 FDMS), which can be reviewed at www.dot.gov/privacy.

Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Pursuant to 49 CFR 190.343, you may ask PHMSA to give confidential treatment to information you give to the Agency by taking the following steps: (1) Mark each page of the original document submission containing CBI as “Confidential”; (2) send PHMSA, along with the original document, a second copy of the original document with the CBI deleted; and (3) explain why the information you are submitting is CBI. Unless you are notified otherwise, PHMSA will treat such marked submissions as confidential under the FOIA, and they will not be placed in the public docket of this notice. Submissions containing CBI should be sent to Angela Hill, DOT, PHMSA, 1200 New Jersey Avenue SE, PHP-30, Washington, DC 20590-0001. Any commentary PHMSA receives that is not specifically designated as CBI will be placed in the public docket for this matter.

FOR FURTHER INFORMATION CONTACT: Angela Hill by telephone at 202-366-1246 or by email at Angela.Hill@dot.gov.

SUPPLEMENTARY INFORMATION: Title 5, Code of Federal Regulations (CFR) section 1320.8(d), requires PHMSA to provide interested members of the public and affected agencies the opportunity to comment on information collection and recordkeeping requests before they are submitted to OMB for approval. This notice identifies four information collection requests that PHMSA will submit to OMB for renewal and requests comment from interested parties. The four information collections (including their expiration dates) are as follows: (1) OMB control number 2137-0589, Response Plans for Onshore Oil Pipelines (6/30/22); (2) OMB control number 2137-0610, Pipeline Integrity Management in High Consequence Areas Gas Transmission Pipeline Operators (6/30/22); (3) OMB control number 2137-0624, Control Room Management Human Factors (6/30/22); and (4) OMB control number 2137-0631, Excess Flow Valves—New Customer Notifications (12/31/22).

The following information is provided for these information collections: (1) Title of the information collection; (2) OMB control number; (3) Current expiration date; (4) Type of request; (5) Abstract of the information collection activity; (6) Description of affected public; (7) Estimate of total annual reporting and recordkeeping burden; and (8) Frequency of collection.

PHMSA will request a three-year term of approval for each of the following information collection activities. PHMSA requests comments on the following information:

1. Title: Response Plans for Onshore Oil Pipelines.

OMB Control Number: 2137-0589.

Current Expiration Date: 6/30/2022.

Type of Request: Renewal of a currently approved information collection.

Abstract: Title 49 CFR part 194 requires an operator of an onshore oil pipeline facility to prepare and submit an oil spill response plan to PHMSA for review and approval. This mandatory recordkeeping requirement details operators' plans to prepare for emergency situations involving oil spills. This mandatory information collection is used by PHMSA to determine if an operator is compliant with the requirements in part 194. Plans are submitted and/or updated annually. This information collection covers operators' submission of facility response plans for onshore hazardous liquid pipeline facilities.

Affected Public: Operators of onshore oil pipeline facilities.

Annual Reporting and Recordkeeping Burden:

Total Annual Responses: 540.

Total Annual Burden Hours: 73,980.

Frequency of Collection: On occasion.

2. Title: Pipeline Integrity Management in High Consequence Areas Gas Transmission Pipeline Operators.

OMB Control Number: 2137-0610.

Current Expiration Date: 6/30/2022.

Type of Request: Renewal of a currently approved information collection.

Abstract: This mandatory information collection request pertains to gas transmission operators that are required to comply with PHMSA's Gas Transmission Integrity Management Program regulations. The information collection requires gas transmission operators in high consequence areas to maintain a written integrity management program and keep records that demonstrate compliance with 49 CFR part 192, subpart O. Operators must maintain their integrity management records for the life of the pipeline, and PHMSA and/or state regulators may review those records as a part of inspections. Gas transmission operators are also required to report to PHMSA certain actions related to their integrity management program. This information collection supports DOT's strategic goal of safety by reducing the number of incidents in natural gas transmission pipelines.

Affected Public: Gas transmission operators.

Annual Reporting and Recordkeeping Burden:

Estimated number of responses: 733.

Estimated annual burden hours: 1,018,807.

Frequency of Collection: On occasion.

3. Title: Control Room Management Human Factors.

OMB Control Number: 2137-0624.

Current Expiration Date: 6/30/2022.

Type of Request: Renewal of a currently approved information collection.

Abstract: Operators of gas and hazardous liquid pipelines must develop, implement, and submit a human factors management plan designed to reduce risks associated with human factors in each control room. The information is used by PHMSA to determine compliance with federal pipeline safety regulations and is also used by agency and state officials to assist federal and state pipeline safety inspectors who audit this information when they conduct compliance inspections as well as to provide background for failure investigations.

Affected Public: Operators of natural gas and hazardous liquid pipelines.

Estimated number of responses: 2,702.

Estimated annual burden hours: 127,328.

Frequency of collection: On occasion.

4. Title: Excess Flow Valves—New Customer Notifications.

OMB Control Number: 2137-0631.

Current Expiration Date: 12/31/2022.

Type of Request: Renewal with no change of a currently approved information collection.

Abstract: This information collection covers the reporting and recordkeeping requirements for gas pipeline operators associated with customer notifications pertaining to the installation of excess flow valves. Gas pipeline operators must notify customers of their right to request the installation of excess flow valves and keep records of those notifications. This information collection includes example of language that can be used to notify natural gas customers of their right to request the installation of an excess flow valve pursuant to § 192.383(d). Use of the language is voluntary but would comply with federal regulatory requirements.

Affected Public: Natural gas pipeline operators.

Annual Reporting and Recordkeeping Burden:

Estimated number of responses: 4,448.

Estimated annual burden hours: 4,448.

Frequency of Collection: On occasion.

Comments are invited on:

(a) The need for the renewal and revision of these collections of information for the proper performance of the functions of the Agency, including whether the information will have practical utility;

(b) The accuracy of the Agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Authority: The Paperwork Reduction Act of 1995; 44 U.S.C. Chapter 35, as amended; and 49 CFR 1.48.

Issued in Washington, DC, under authority delegated in 49 CFR 1.97.
John A. Gale,
Director, Standards and Rulemaking Division.

[FR Doc. 2022-02048 Filed 2-1-22; 8:45 am]

BILLING CODE 4910-60-P